DEPARTMENT OF DEFENSE

Office of the Secretary

[Transmittal No. 24-0J]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0J.

Dated: November 13, 2025.
Aaron T. Siegel,
Alternate OSD Federal Register Liaison Officer, Department of Defense.

Transmittal No. 24-0J

REPORT OF ENHANCEMENT OR UPGRADE OF SENSITIVITY OF TECHNOLOGY OR CAPABILITY (SEC. 36(b)(5)(C), AECA)

(i) Purchaser: Government of the United Kingdom.

(ii) Sec. 36(b)(1), AECA Transmittal No.: 20-76.

Date: September 24, 2020.

Implementing Agency: Air Force.

(iii) Description: On September 24, 2020, Congress was notified by congressional certification transmittal number 20-76 of the possible sale, under Section 36(b)(1) of the Arms Export Control Act, of follow-on C-17 aircraft Contractor Logistical Support (CLS) to include aircraft component spare and repair parts; accessories; publications and technical documentation; software and software support; U.S. Government and contractor engineering, technical and logistical support services; and other related elements of logistical and program support. The total estimated program cost was $401.3 million. There was no Major Defense Equipment (MDE) associated with this sale.

On May 23, 2023, Congress was notified by congressional certification transmittal number 0G-23 of the addition of $0.7 million in non-MDE beyond what was originally notified, as well as the following non-MDE items: Mission Computer Displays and keyboards; additional spare parts, consumables, and accessories and repair and return support; and GPS receivers. The total cost of the new non-MDE articles was $3.4 million. The total case value increased to $405.4 million. There continued to be no MDE associated with this sale.

This transmittal notifies an increase in non-MDE value by $654.6 million, due to recent cost increases. This will result in a new non-MDE and overall total case value of $1.06 billion. There continues to be no MDE associated with this potential sale.

(iv) Significance: Recent cost increases have brought about the need to add value to the original notification. The proposed sale will improve the United Kingdom's capability to meet current and future threats by ensuring the operational readiness of the Royal Air Force. Its C-17 aircraft fleet provides strategic airlift capabilities that directly support U.S. and coalition operations around the world.

(v) Justification: This proposed sale will support the foreign policy and national security objectives of the United States by improving the security of a key NATO Ally that is an important force for political stability and economic progress in Europe.

(vi) Date Report Delivered to Congress: August 14, 2024

[FR Doc. 2025-20031 Filed 11-17-25; 8:45 am]

BILLING CODE 6001-FR-P